DEPARTMENT OF COMMERCE

National Telecommunications and Information Administration

Agency Information Collection Activities; Submission for OMB Review; Comment Request; Middle Mile Grant Program Reporting Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 23, 2023 during a 60-day comment period. This notice allows for an additional 30 days for public comments.

Agency: National Telecommunication and Information Administration (NTIA), Department of Commerce.

Title: Middle Mile Grant Program Reporting Requirements.

OMB Control Number: 0060-0052.

Form Number(s): None.

Type of Request: Revision of a current information collection.

Number of Respondents: 39.

Average Hours per Response: 38.22 Hours.

Burden Hours: 4,471.74 Estimated Total Annually.

Needs and Uses: Modifying the Middle Mile Bi-Annual Performance Reports and Final Report to include questions regarding equipment purchases, which will enable the Commerce Department and NTIA to ensure recipient compliance with the Build America, Buy America Act (“BABA”) and facilitate NTIA's ability to collect data to comply with BABA reporting requirements. NTIA will also use the information collected to effectively administer and monitor the grant program to ensure the achievement of the Middle Mile Grant Program purposes and account for the expenditure of federal funds to deter waste, fraud, and abuse.

Affected Public: Grant award recipients consisting of States, political subdivisions of a State, Tribal governments, technology companies, electric utilities, utility cooperatives, public utility districts, telecommunications companies, telecommunications cooperatives, nonprofit foundations, nonprofit corporations, nonprofit institutions, nonprofit associations, regional planning councils, Native entities, economic development authorities, or any partnership of two (2) or more of these entities.

Frequency: Bi-annually and at the end of the Period of Performance.

Respondent's Obligation: Mandatory.

Legal Authority: Section 60401 of the Infrastructure Investment and Jobs Act of 2021, Public Law 117-58, 135 Stat. 429 (November 15, 2021).

This information collection request may be viewed at http://www.reginfo.gov/. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0060-0052.

Sheleen Dumas,
Department PRA Clearance Officer, Office of the Under Secretary of Economic Affairs, Commerce Department.

[FR Doc. 2023-27610 Filed 12-14-23; 8:45 am]

BILLING CODE 3510-60-P